PEACE CORPS

Privacy Act of 1974: New System of Records

AGENCY: Peace Corps.

ACTION: Notice of a new system of records.

SUMMARY: Peace Corps proposes to add a new system of records to its inventory of records systems subject to the Privacy Act of 1974. The purpose of this system is to allow the Peace Corps to collect and maintain records related to an individual's request and receipt of reasonable accommodations through the Office of Civil Rights and Diversity. Individuals include applicants, current, and former civilian personnel, interns, and Peace Corps Volunteers, and third-party individuals who either assist an individual in the application process, or professionals in a medical, health, or specialized field who provide information about the individual related to the reasonable accommodation request.

DATES: This new system of records is effective upon publication; however, comments on the Routine Uses will be accepted on or before December 20, 2021. The Routine Uses are effective at the close of the comment period.

ADDRESSES: Send written comments, identified by the docket number and title, to the Peace Corps, ATTN: Virginia Burke, FOIA/Privacy Act Officer, 1275 First Street NE, Washington, DC 20526, or by email at pcfr@peacecorps.gov. Email comments must be made in text and not in attachments.

FOR FURTHER INFORMATION CONTACT: Virginia Burke, FOIA/Privacy Act Officer, 1275 First Street NE, Washington, DC 20526; pcfr@peacecorps.gov; or 202-692-1887.

SUPPLEMENTARY INFORMATION: In accordance with the Privacy Act of 1974, the Peace Corps proposes to establish a new system of records titled, “PC-27, Reasonable Accommodations Request Records.” This system of records covers Peace Corps' collection and maintenance of records from applicants for employment, internships, Peace Corps Volunteer positions, current and former employees, interns, and Peace Corps Volunteers, third-party professionals, and any third-party participants engaged in Peace Corps activities who request and receive reasonable accommodations for a disability, or for medical or religious reasons. Records may include information on individuals' vaccination status and information to support a request for reasonable accommodation based on a disability, medical, or sincerely held religious belief.

Dated: November 15, 2021.
Virginia Burke,
FOIA/Privacy Act Officer.

PC-37—Peace Corps

SYSTEM NAME AND NUMBER:

Reasonable Accommodation Requests, PC-37.

SECURITY CLASSIFICATION:

Unclassified.

SYSTEM LOCATION:

Office of Civil Rights and Diversity, Peace Corps, 1275 First Street NE, Washington, DC 20526. Some documents related to requests for reasonable accommodations may also be located in an electronic file in the Office of Human Resources at the same address.

SYSTEM MANAGER(S):

Director, Office of Civil Rights and Diversity, Peace Corps, 1275 First Street NE, Washington, DC 20526.

AUTHORITY FOR MAINTENANCE OF THE SYSTEM:

The Peace Corps Act, as amended (22 U.S.C. 2503); the Rehabilitation Act of 1973, as amended (29 U.S.C. 791); Title VII of the Civil Rights Act of 1964, as amended (42 U.S.C. 2000e); Civil Rights Act of 1991 42 U.S.C. 1981; Executive Order (E.O.) 13163, Increasing the Opportunities for Individuals with Disabilities to be Employed in the Federal Government; E.O. 13164, Requiring Federal Agencies To Establish Procedures To Facilitate the Provision of Reasonable Accommodation; E.O. 13548, Increasing Federal Employment of Individuals with Disabilities, and Executive Order 14043: Requiring Coronavirus Disease 2019 Vaccination for Federal Employees.

PURPOSE OF THE SYSTEM:

The purpose of this system is to document and manage the agency's receipt, review, approval or denial decision, and implementation of an individual's reasonable accommodation request under the Rehabilitation Act of 1973, as amended, Title VII of the Civil Rights Act, as amended, and the 1991 Civil Rights Act. The purpose is also to allow the agency to collect and maintain records on applicants for employment as well as employees with disability, medical condition or because of their religious beliefs, practice or observance who request or receive reasonable accommodations as required by the Rehabilitation Act of 1973, as amended, and Title VII of the Civil Rights Act, as amended, and the 1991 Civil Rights Act. This system will also track and report the processing of requests for reasonable accommodation to comply with applicable law and regulations and to preserve and maintain confidentiality of the records.

CATEGORIES OF INDIVIDUALS COVERED BY THE SYSTEM:

The categories of individuals covered by the system are Peace Corps applicants, personnel, or public participants in a Peace Corps activity who request a reasonable accommodations on the bases of a disability, medical condition or for religious reasons. This includes federal job and internship applicants, current and former federal employees, political appointees, experts, and interns; Peace Corps Volunteer applicants, Peace Corps Volunteers, and Returned Peace Corps Volunteers; covered federal employees as defined in 5 U.S.C. 2105 to be fully vaccinated against COVID-19, and third parties who represent or advocate for or on the behalf of the requesting individual, or who participate in a Peace Corps activity or program.

CATEGORIES OF RECORDS IN THE SYSTEM:

The categories of records in this system include the requesting individual's reasonable accommodation request form, the individual's supporting documentation for disability, or medical condition, medical records, medical notes or letters, the requested accommodation, information involving medical devices, impairments, disability type, and disability condition. Requests for accommodation for religious reasons may include documents related to support the request for religious accommodation including documents from third parties.

The categories of records also may include documents that describe the type of accommodation, documents that approve or deny the reasonable accommodation request; documents or information about the implementation of the accommodation request, emails, notes, letter and memoranda regarding the request for accommodation.

Identifying information includes the requesting individual's first and last name, office name and location; work email address and telephone numbers, employee position and grade; supervisor's full name, email address, phone number, office name; a third-party advocate's first and last name and contact information; a health care provider's full name, work address, work phone number, fax number, work email address and signature; full name and office of personnel processing requests; the information related to the accommodation request such as medical or disability information, and religious affiliation, belief, practice, or observance for a religious accommodation request.

RECORD SOURCE CATEGORIES:

The information sources include individuals requesting reasonable accommodations, healthcare providers or supporting professionals, advocates for the individual; and Peace Corps personnel who participate in evaluation, review, determination, and implementation of a reasonable accommodation request.

ROUTINE USES OF RECORDS MAINTAINED IN THE SYSTEM, INCLUDING CATEGORIES OF USERS AND THE PURPOSES OF SUCH USES:

In addition to those disclosures generally permitted under 5 U.S.C. 552a(b) of the Privacy Act, the Peace Corps may disclose all or a portion of the records or information contained in this system without the consent of the subject individual may be disclosed if the disclosure is compatible with the purpose for which the record was collected outside the Peace Corps as a routine use pursuant to 5 U.S.C. 552a(b)(3) as follows:

A. Disclosure for Law Enforcement Purposes. Information may be disclosed to the appropriate Federal, State, local, or foreign agency responsible for investigating, prosecuting, enforcing, or implementing a statute, rule, regulation, or order, if the information indicates a violation or potential violation of civil or criminal law or regulation within the jurisdiction of the receiving entity.

B. Disclosure Incident to Requesting Information. Information may be disclosed to any source from which additional information is requested (to the extent necessary to identify the individual, inform the source of the purpose(s) of the request, or to identify the type of information requested); when necessary to obtain information relevant to a Peace Corps decision concerning retention of an employee or other personnel action (other than hiring), retention of a security clearance, the letting of a contract, or the issuance or retention of a grant or other benefit.

C. Disclosure to Requesting Agency. Information may be disclosed to a Federal, State, local, or other public authority of the fact that this system of records contains information relevant to the requesting agency's retention of an employee, the retention of a security clearance, the letting of a contract, or the issuance or retention of a license, grant, or other benefit. The other agency or licensing organization may then make a request supported by the written consent of the individual for part or all of the record if it so chooses. No disclosure will be made unless the information has been determined to be sufficiently reliable to support a referral to another office within the agency or to another Federal agency for criminal, civil, administrative, personnel, or regulatory action.

D. Disclosure to Office of Management and Budget. Information may be disclosed to the Office of Management and Budget at any stage in the legislative coordination and clearance process in connection with private relief legislation as set forth in OMB Circular No. A-19.

E. Disclosure to Congressional Offices. Information may be disclosed to a congressional office from the record of an individual in response to an inquiry from the congressional office made at the request of the individual.

F. Disclosure to Department of Justice. Information may be disclosed for purposes of litigation, provided that in each case the disclosure is compatible with the purpose for which the records were collected. Disclosure for these purposes may be made to the Department of Justice, or in a proceeding before a court, adjudicative body, or other administrative body before which the Peace Corps is authorized to appear. This disclosure may be made when: 1. The Peace Corps, or any component thereof; 2. Any employee of the Peace Corps in his or her official capacity; 3. Any employee of the Peace Corps in his or her individual capacity where the Department of Justice or the Peace Corps has agreed to represent the employee; or 4. The United States (when the Peace Corps determines that litigation is likely to affect the Peace Corps or any of its components) is a party to litigation or has an interest in such litigation, and the use of such records by the Department of Justice or the Peace Corps is deemed by the Peace Corps to be relevant and necessary to the litigation.

G. Disclosure to the National Archives. Information may be disclosed to the National Archives and Records Administration in records management inspections.

H. Disclosure to Contractors, Grantees, and Others. Information may be disclosed to contractors, grantees, consultants, or Volunteers performing or working on a contract, service, grant, cooperative agreement, job, or other activity for the Peace Corps and who have a need to have access to the information in the performance of their duties or activities for the Peace Corps. When appropriate, recipients will be required to comply with the requirements of the Privacy Act of 1974 as provided in 5 U.S.C. 552a(m).

I. Disclosures for Administrative Claims, Complaints, and Appeals. Information may be disclosed to an authorized appeal grievance examiner, formal complaints examiner, equal employment opportunity investigator, arbitrator, or other person properly engaged in investigation or settlement of an administrative grievance, complaint, claim, or appeal filed by an employee, but only to the extent that the information is relevant and necessary to the proceeding, Agencies that may obtain information under this routine use include, but are not limited to: The Office of Personnel Management, Office of Special Counsel, Federal Labor Relations Authority, U.S. Equal Employment Commission, and Office of Government Ethics.

J. Disclosure to the Office of Personnel Management. Information may be disclosed to the Office of Personnel Management pursuant to that agency's responsibility for evaluation and oversight of Federal personnel management.

K. Disclosure in Connection with Litigation. Information may be disclosed in connection with litigation or settlement discussions regarding claims by or against the Peace Corps, including public filings with a court, to the extent that disclosure of the information is relevant and necessary to the litigation or discussions and except where court orders are otherwise required under Section (b)(11) of the Privacy Act of 1974, 5 U.S.C. 552a(b)(11).

L. Disclosure to U.S. Ambassadors. Information from this system of records may be disclosed to a U.S. Ambassador or his or her designee in a country where the Peace Corps serves when the information is needed to perform an official responsibility, to allow the Ambassador to knowledgeably respond to official inquiries and deal with in- country situations that are within the scope of the Ambassador's responsibility.

M. Disclosure to appropriate agencies, entities, and persons when (1) the Peace Corps suspects or has confirmed that there has been a breach of the system of records; (2) the Peace Corps has determined that as a result of the suspected or confirmed breach, there is a risk of harm to individuals, the Peace Corps (including its information systems, programs, and operations), the Federal Government, or national security; and (3) the disclosure made to such agencies, entities, and persons is reasonably necessary to assist in connection with the Peace Corps' efforts to respond to the suspected or confirmed breach or to prevent, minimize, or remedy such harm.

N. Disclosure another Federal agency or Federal entity, when the Peace Corps determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

O. Disclosures to Public Health Agencies and Authorities, individuals records' may be disclosed to federal, state, local, and Tribal health departments, other cooperating medical authorities, or other appropriate entities or organizations, in order for them to take measures to control, prevent, or treat communicable disease; and to deal more effectively with contagious diseases and conditions of public health.

POLICIES AND PRACTICES FOR STORAGE OF RECORDS:

The records in this system of records are stored electronically on Peace Corps' database servers, hosted at the Peace Corps data center in Ashburn, VA. Access to these servers are restricted to authorized government personnel. Paper records are stored in a locked metal file cabinet.

POLICIES AND PRACTICES FOR RETRIEVAL OF RECORDS:

Reasonable Accommodation Requests records and information may be retrieved by an individual's name, Employee ID number, assigned office, and date of request.

POLICIES AND PRACTICES FOR RETENTION AND DISPOSAL OF RECORDS:

Records are retired and destroyed in accordance with the Peace Corps' published record disposition schedules that are approved by the National Archives and Records Administration. Records in this system are subject to General Records Schedule (GRS) for “Reasonable Accommodation Program Files,” disposition authority: DAA-GRS-2018-0002-0001, GRS 2.3, item 010, and will be retained for three years unless a business use is identified that requires a longer retention.

ADMINISTRATIVE, TECHNICAL, AND PHYSICAL SAFEGUARDS:

The Peace Corps safeguards records in this system in accordance with applicable laws, rules and policies to protect personally identifiable information against unauthorized access or disclosure. The Peace Corps has imposed strict controls to minimize such risks. Administrative safeguards include but not limited to: Access to the records in this system is limited to authorized personnel who need to know the information to perform official duties, and whose roles have been authorized with such access permissions. All such individuals receive the appropriate privacy and cybersecurity training on an annual basis.

The physical controls in place include the servers storing electronic data are located offsite in a locked facility with access limited to authorized personnel. The servers are maintained in accordance with a government contract that requires adherence to applicable laws, rules, and policies on protecting individual privacy.

The technical controls in place include multiple firewalls, system access, encrypted data at rest, encrypted data in motion, periodic vulnerability scans to ensure security compliance, and security access logs. Security complies with applicable Federal Information Processing Standards (FIPS) issued by the National Institute of Standards and Technology (NIST). Access is restricted to specific authorized Peace Corps individuals who have internet access through work computers using a Personally Identity Verification (PIV) or an assigned RSA token for general login access. Individual users can only access records with the proper pre-approved accreditation.

RECORD ACCESS PROCEDURES:

Individuals seeking access to their records should follow the procedures in 22 CFR part 308. Individuals should address written inquiries to the Privacy Officer at FOIA@peacecorps.gov. Provide a signed written request containing the name and number of this system of records notice along with the individual's full name, current address, and email address. The requester must provide either a notarized statement or an unsworn declaration made in accordance with 28 U.S.C. 1746, in the appropriate format:

If executed outside the United States: “I declare (or certify, verify, or state) under penalty of perjury under the laws of the United States of America that the foregoing is true and correct. Executed on (date). (Signature).”

If executed within the United States, its territories, possessions, or commonwealths: “I declare (or certify, verify, or state) under penalty of perjury that the foregoing is true and correct. Executed on (date). (Signature).”

CONTESTING RECORD PROCEDURES:

Individuals may request that records about them be amended or appeal an adverse decision by writing to the Peace Corps, Privacy Act Officer, Privacy Act Office at 1275 First Street NE, Washington, DC 20526 or submitting an electronic request to FOIA@peacecorps.gov and furnish the same information as required in the “Record Access Procedures” (full name, identify the system of records, provide the relevant signed declaration). In addition, clearly and concisely state what information is being contested, the reasons for contesting it, and the proposed amendment to the information sought.

NOTIFICATION PROCEDURES:

See “Record Access Procedures.”

EXEMPTIONS PROMULGATED FOR THE SYSTEM:

None.

HISTORY:

None.

[FR Doc. 2021-25327 Filed 11-18-21; 8:45 am]

BILLING CODE 6051-01-P